DEPARTMENT OF ENERGY

Federal Energy Regulatory Commission

Notice of Commissioner and Staff Attendance at North American Electric Reliability Corporation Meetings

May 5, 2010.

The Federal Energy Regulatory Commission hereby gives notice that members of the Commission and/or Commission staff may attend the following meetings:

May 11 (1 p.m.-5 p.m.) and 12 (8 a.m.-1 p.m.), 2010.

North American Electric Reliability Corporation. Member Representatives Committee and Board of Trustees Meetings.

Hyatt Regency Baltimore on the Inner Harbor, 300 Light Street, Baltimore, MD 21202.

Further information regarding these meetings may be found at: http://www.nerc.com/calendar.php.

The discussions at the meetings, which are open to the public, may address matters at issue in the following Commission proceedings:

Docket No. RC08-4, North American Electric Reliability Corporation.

Docket No. RC08-5, North American Electric Reliability Corporation.

Docket No. RR08-4, North American Electric Reliability Corporation.

Docket No. RR09-6, North American Electric Reliability Corporation.

Docket No. RR09-7, North American Electric Reliability Corporation.

Docket No. RR10-6, North American Electric Reliability Corporation.

Docket No. RR10-7, North American Electric Reliability Corporation.

Docket No. RR10-8, North American Electric Reliability Corporation.

Docket No. RD09-4, North American Electric Reliability Corporation.

Docket No. RD09-5, North American Electric Reliability Corporation.

Docket No. RD09-7, North American Electric Reliability Corporation.

Docket No. RD09-8, North American Electric Reliability Corporation.

Docket No. RD09-11, North American Electric Reliability Corporation.

Docket No. RD10-2, North American Electric Reliability Corporation.

Docket No. RD10-3, North American Electric Reliability Corporation.

Docket No. RD10-4, North American Electric Reliability Corporation.

Docket No. RD10-5, North American Electric Reliability Corporation.

Docket No. RD10-6, North American Electric Reliability Corporation.

Docket No. RD10-8, North American Electric Reliability Corporation.

Docket No. RR10-9, North American Electric Reliability Corporation.

Docket No. RD10-10, North American Electric Reliability Corporation.

Docket No. RD10-11, North American Electric Reliability Corporation.

Docket No. RD10-12, North American Electric Reliability Corporation.

Docket No. RD10-13, North American Electric Reliability Corporation.

For further information, please contact John Carlson, 202-502-6288, or john.carlson@ferc.gov.

Kimberly D. Bose,
Secretary.

[FR Doc. 2010-11233 Filed 5-11-10; 8:45 am]

BILLING CODE 6717-01-P